DEPARTMENT OF EDUCATION

[Docket No.: ED-2018-ICCD-0054]

Agency Information Collection Activities; Submission to the Office of Management and Budget for Review and Approval; Comment Request; Fast Response Survey System (FRSS) 109: Teachers' Use of Technology for School and Homework Assignments

AGENCY: National Center for Education Statistics (NCES), Department of Education (ED).

ACTION: Notice.

SUMMARY: In accordance with the Paperwork Reduction Act of 1995, ED is proposing a revision of an existing information collection.

DATES: Interested persons are invited to submit comments on or before August 6, 2018.

ADDRESSES: To access and review all the documents related to the information collection listed in this notice, please use http://www.regulations.gov by searching the Docket ID number ED-2018-ICCD-0054. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 206-06, Washington, DC 20202-4537.

FOR FURTHER INFORMATION CONTACT: For specific questions related to collection activities, please contact Kashka Kubzdela, 202-245-7377 or email NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Fast Response Survey System (FRSS) 109: Teachers' Use of Technology for School and Homework Assignments.

OMB Control Number: 1850-0857.

Type of Review: A revision of an existing information collection.

Respondents/Affected Public: Individuals or Households.

Total Estimated Number of Annual Responses: 9,500.

Total Estimated Number of Annual Burden Hours: 3,251.

Abstract: The Fast Response Survey System (FRSS) 109 survey on teachers' use of technology for school and homework assignments in public schools is conducted by the National Center for Education Statistics (NCES) as part of the IES response to the request in the Every Student Succeeds Act of 2015 (ESSA, 20 U.S.C. 6301 et seq.) to provide information about the educational impact of access to digital learning resources (DLRs) outside of the classroom. The expanding use of technology affects the lives of students both inside and outside the classroom. For this reason, the role of technology in education is an increasingly important area of research. While access to technology can provide valuable learning opportunities to students, technology by itself does not guarantee successful outcomes. Schools and teachers play an important role in successfully integrating technology into teaching and learning. Findings from the FRSS 109 study will provide insight on the types and availability of DLRs outside of the classroom, and will contribute to IES legislatively mandated report on the educational impact of access to DLRs outside the classroom. To provide the needed data, FRSS 109 will collect nationally representative data from public school teachers about their use of DLRs for teaching, and how their knowledge and beliefs about their students' access to DLRs outside the classroom affect the assignments they give. The survey will focus on information that can best be provided by teachers from their perspective and direct interaction with students. FRSS 109 will provide national statistics on: (1) Teachers' knowledge and beliefs about students' access to technology for doing school assignments outside of school; (2) Barriers and challenges teachers believe their students face in using technology for class assignments outside of school; and (3) Computers that the district or school may make available to students for use outside of class time. The request for FRSS 109 preliminary activities, including securing research approval from special contact school districts beginning in April 2018, notifying superintendents of districts with sampled schools about the survey, and obtaining teacher lists from sampled schools beginning in August 2018, was approved in March 2018, with the latest change request approved in April 2018 (1850-0857 v.2-4). This request is to conduct the FRSS 109 data collection.

Dated: June 28, 2018.
Kate Mullan,
Acting Director, Information Collection Clearance Division, Office of the Chief Privacy Officer, Office of Management.

[FR Doc. 2018-14369 Filed 7-3-18; 8:45 am]

BILLING CODE 4000-01-P